FEDERAL MEDIATION AND CONCILIATION SERVICE

Privacy Act of 1974; System of Records

AGENCY: Federal Mediation and Conciliation Service.

ACTION: Notice of a new system of records.

SUMMARY: In accordance with the Privacy Act of 1974, the Federal Mediation and Conciliation Service (FMCS) proposes to create a system of records notice, titled FMCS-0005, the Religious Accommodation System. The system will include the Religious Accommodation Form that can be completed by any employee.

DATES: This notice will be effective without further notice on November 26, 2021 unless otherwise revised pursuant to comments received. New routine uses will be effective on November 26, 2021. Comments must be received on or before November 26, 2021.

ADDRESSES: You may send comments, identified by FMCS-0005 by any of the following methods:

• Mail: Office of General Counsel, 250 E Street SW, Washington, DC 20427.

• Email: ogc@fmcs.gov. Include FMCS-0005 on the subject line of the message.

• Fax: (202) 606-5444.

FOR FURTHER INFORMATION CONTACT: Doug Jones, Director of Information Technology, at djones@fmcs.gov or 202-606-5483.

SUPPLEMENTARY INFORMATION: In accordance with the Privacy Act of 1974, 5 U.S.C. 552(a), this system is needed for collecting and storing FMCS employee religious exemption information.

SYSTEM NAME AND NUMBER:

FMCS-0005 Religious Accommodation System.

SECURITY CLASSIFICATION:

Unclassified.

SYSTEM LOCATION:

Federal Mediation and Conciliation Service, Office of General Counsel (OGC), 250 E Street SW, Washington, DC 20427.

SYSTEM MANAGER(S):

Angie Titcombe, Director of Human Resources, and Natalie Samuels, Benefits and Retirement Specialist. Doug Jones, Director of Information Technology, will not access content in the internal folder, will only troubleshoot any technical issues regarding electronic files. Send mail to Federal Mediation and Conciliation Service, 250 E Street Southwest, Washington, DC 20427.

AUTHORITY FOR MAINTENANCE OF THE SYSTEM:

29 U.S.C. 172, et seq.; Title VII of the Civil Rights Act of 1964.

PURPOSE(S) OF THE SYSTEM:

The purpose of this system is to provide a system for collecting, processing, and maintaining religious accommodation requests. Information stored and maintained in this system pertains to exemptions based upon a religious accommodation.

The system will collect information submitted by employees, detailing the requested accommodations and any supporting documentation. This also includes information pertaining to the final determination of the accommodation.

CATEGORIES OF INDIVIDUALS COVERED BY THE SYSTEM:

The categories of individuals covered in the system of records includes both current and former Federal employees who have requested religious accommodations.

CATEGORIES OF RECORDS IN THE SYSTEM:

These records contain first and last name, position held, the date of the request, description of religious belief and how it will impact the ability to comply with agency requirements and perform official duties.

RECORD SOURCE CATEGORIES:

Information in this system of records is provided by:

1. The Federal employee submitting an accommodation form.

2. FMCS Human Resources officials who provide confirmation approval or denial of requests.

Additional record source categories could include documents pertaining to the employee's religion and religious practices.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where FMCS becomes aware of an indication of a violation or potential violation of civil or criminal laws or regulations.

(b) To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

(c) To officials of labor organizations recognized under 5 U.S.C. chapter 71 upon receipt of a formal request and in accordance with the conditions of 5 U.S.C. 7114 when relevant and necessary to their duties of exclusive representation concerning personnel policies, practices, and matters affecting working conditions.

(d) To disclose information to a Member of Congress or a congressional office in response to an inquiry made on behalf of, and at the request of, an individual who is the subject of the record.

(e) To respond to subpoenas in any litigation or other proceeding.

(f) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(g) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in hard copy and electronic form in locations only accessible to authorized personnel. Electronic records are stored on the agency's internal servers with restricted access. Hard copy records are stored in a locked cabinet accessible to authorized Human Resources staff and designated deciding officials.

POLICIES AND PRACTICES FOR RETRIEVAL OF RECORDS:

These records are retrieved by the name or other programmatic identifier assigned to an individual in the electronic database and paper filing system.

POLICIES AND PRACTICES FOR RETENTION AND DISPOSAL OF RECORDS:

All records are retained and disposed of in accordance with General Records Schedule 2.3, issued by the National Archives and Records Administration. Records are updated as needed, retained for three years after separation and/or for the entirety of the employee's active employment, and destroyed by shredding or deleting.

ADMINSTRATIVE, TECHNICAL, AND PHYSICAL SAFEGUARDS:

Records are located in a locked file storage area or stored electronically in locations only accessible to authorized personnel. Access is restricted, and accessible to limited Human Resources officials, and/or individuals in a need-to-know capacity. FMCS buildings are guarded and monitored by security personnel, cameras, ID checks, and other physical security measures.

RECORD ACCESS PROCEDURES:

If an employee would like access to their Religious Accommodation Form, please send a request with the specific information needed to the resource mailbox at FMCSMedicalInfo@fmcs.gov. A copy of the requested information will be provided via email in an encrypted file.

CONTESTING RECORDS PROCEDURES:

See 29 CFR 1410.6, Requests for correction or amendment of records, on how to contest the content of any records. Privacy Act requests to amend or correct records may be submitted to the Chief Privacy Officer at privacy@fmcs.gov or Chief Privacy Officer, FMCS, 250 E Street SW, Washington, DC 20427. Also, see https://www.fmcs.gov/privacy-policy/.

NOTIFICATION PROCEDURES:

See 29 CFR 1410.3(a), Individual access requests.

EXEMPTIONS PROMULGATED FOR THE SYSTEM:

None.

HISTORY:

None.

Dated: October 22, 2021.
Sarah Cudahy,
General Counsel.

[FR Doc. 2021-23408 Filed 10-26-21; 8:45 am]

BILLING CODE 6732-01-P